DEPARTMENT OF THE TREASURY

Internal Revenue Service

26 CFR Part 1

[TD 10010]

RIN 1545-BQ85

Advanced Manufacturing Production Credit; Correction

AGENCY: Internal Revenue Service (IRS), Treasury.

ACTION: Final rule; correction.

SUMMARY: This document contains corrections to Treasury Decision 10010 published in the Federal Register on Monday, October 28, 2024. Treasury Decision 10010 sets forth final regulations regarding the advanced manufacturing production credit established by the Inflation Reduction Act of 2022 to incentivize the production of eligible components within the United States.

DATES:

Effective date: These corrections are effective on December 27, 2024.

Applicability date: For date of applicability, see §§ 1.45X-1(j), 1.45X-2(f), 1.45X-3(g), and 1.45X-4(d).

FOR FURTHER INFORMATION CONTACT: Mindy Chou or Derek Gimbel at (202) 317-6853 (not a toll-free number).

SUPPLEMENTARY INFORMATION:

Background

The final regulations (TD 10010) subject to these corrections are issued under section 45X of the Internal Revenue Code.

Correction of Publication

Accordingly, FR Doc. 2024-24840 (TD 10010), appearing on page 85798 in the Federal Register of Monday, October 28, 2024, is corrected as follows:

1. On page 85798, in the second column, in the second partial paragraph, in the third line from the bottom of the paragraph, the language “1818 (August 16, 2022)” is corrected to read “1818, 1971 (August 16, 2022)”.

2. On page 85800, in the first column, in the first full paragraph, in the eighth line, “193” is corrected to read “194”.

3. On page 85800, in the first column, the heading “A. In general” is corrected to read “A. In General”.

4. On page 85801, in the second column, in the sixth line from the bottom of the first partial paragraph, the language “considered to produce” is corrected to read “considered to have produced”.

5. On page 85801, in the third column, in the fifth line of the first full paragraph, the language “produced by the taxpayer” is corrected to read ““produced by the taxpayer””.

6. On page 85803, in the second column, in the twenty-fourth line of the first full paragraph, the language “clarified” is corrected to read “clarified the”.

7. On page 85803, in the second column, in the fifth line from the bottom of the first full paragraph, the language “have” is corrected to read “have the”.

8. On page 85803, in the second column, in the sixth line of the first partial paragraph, the language “United States,” is corrected to read “United States, including continental shelf areas”.

9. On page 85806, in the third column, in the sixth line of the first partial paragraph, the word “batteries” is corrected to read “eligible components”.

10. On page 85806, in the third column, in the eighth line of the first full paragraph, the word “both” is corrected to read “the”.

11. On page 85807, in the third column, in the last line from the bottom of the first partial paragraph, the language “sale.” is corrected to read “sale. Accordingly, the Treasury Department and the IRS decline to adopt the commenter's suggestion and finalize the proposed rule without modification.”.

12. On page 85807, in the third column, in the eighth line of the second full paragraph, the language “as commenter” is corrected to read “as the commenter”.

13. On page 85809, in the third column, in the fifth line from the bottom of the third full paragraph, the word “if” is corrected to read “provided that”.

14. On page 85809, in the third column, in the fourth line from the bottom of the third full paragraph, the word “polysilicon” is corrected to read “polysilicon,”.

15. On page 85813, in the first column, in the seventh line from the bottom of the third full paragraph, the language “(Standard)” is removed.

16. On page 85813, in the first column, in the fifth line from the bottom of the third full paragraph, the language “Standards” is corrected to read “standards”.

17. On page 85815, in the third column, in the second line of the third full paragraph, the language “that generally,” is corrected to read “that, generally,”.

18. On page 85816, in the second column, the first partial paragraph, the language “as electrode active materials, battery cells, or battery modules” is corrected to read “as an electrode active material, a battery cell, or a battery module”.

19. On page 85820, in the second column, in the twentieth line of the first full paragraph, the word “at” is corrected to read “an”.

§§ 1.45X-1 [Corrected]

20. On page 85832, in the second column, correct paragraph (a)(2)(xi) to read as follows: “(xi) Produced by the taxpayer. The term produced by the taxpayer is defined in paragraph (c) of this section.”.

21. On page 85833, in the first column, in the fifth line from the bottom of paragraph (c)(2)(i), the language “1.45X-3(e)(2)(ii)(A)” is corrected to read “1.45X-3(e)(2)(iii)(A)”.

22. On page 85833, in the first column, in the second line from the bottom of paragraph (c)(2)(i), the language “3(e)(2)(ii)(B)” is corrected to read “3(e)(2)(iii)(B)”.

23. On page 85833, in the second column, in the third line of paragraph (c)(2)(ii), the language “45X(c)(6)(P)” is corrected to read “45X(c)(6)(P)(ii)”.

24. On page 85833, in the second column, in the last line from the bottom of paragraph (c)(2)(ii), the language “45X(c)(6)(P)” is corrected to read “45X(c)(6)(P)(ii)”.

25. On page 85834, in the second column, in the second line from the bottom of paragraph (c)(3)(v)(D), the language “paragraph (c)(2)(i)” is corrected to read “paragraph (c)(3)(i).

26. On page 85834, in the third column, in the fifth line of paragraph (c)(4)(ii), the language “45X(4)(B)(iv)” is corrected to read “45X(c)(4)(B)(iv)”.

27. On page 85836, in the first column, in the fourth line from the bottom of paragraph (g)(4)(iii)(B), the language “Production Unit A or B” is corrected to read “Equipment A or B”.

28. On page 85836, in the second column, the heading for paragraph (g)(4)(v) is corrected to read “Example 5: Multiple tangible property used to produce separate eligible components—”.

§ 1.45X-3 [Corrected]

29. On page 85842, in the second column, in the tenth line of paragraph (e)(2)(iv)(A)(1), the word “material” is corrected to read “material only,”.

30. On page 85842, in the third column, in the third line of paragraph (e)(3)(ii), the language “(e)(2)(iv)(A)(2)(i)” is corrected to read “(e)(2)(iv)(A)(3)(i)”.

31. On page 85843, in the third column, in the seventh line from the bottom of paragraph (e)(4)(i)(A), the word “individually” is removed.

§ 1.45X-4 [Corrected]

32. On page 85845, in the second column, in the ninth line of paragraph (c)(3)(i), the word “mineral,” is corrected to read “mineral only,”.

Oluwafunmilayo A. Taylor,
Section Chief, Publications and Regulations Section, Associate Chief Counsel, (Procedure and Administration).

[FR Doc. 2024-27588 Filed 11-25-24; 8:45 am]

BILLING CODE 4830-01-P